NUCLEAR REGULATORY COMMISSION

Advisory Committee On Reactor Safeguards (ACRS); Meeting of the ACRS Subcommittee On Reliability and PRA; Revision to Notice of Meetings

The Federal Register Notice for the ACRS Subcommittee Meeting on Reliability and PRA scheduled to be held on July 22, 2013, is being revised to notify the following:

The meeting will be open to public attendance with the exception of a portion that may be closed pursuant to 5 U.S.C. 552b(c)(4) to discuss proprietary information of the voluntary site.

The notice of this meeting was previously published in the Federal Register on Friday June 21, 2013 [78 FR 37596-37597].

Further information regarding these meetings can be obtained by contacting the Designated Federal Official (DFO), John Lai (Telephone 301-415-5197 or Email: John.Lai@nrc.gov) between 8:15 a.m. and 5:00 p.m.

Dated: June 26, 2013.
Antonio Dias,
Technical Advisor, Advisory Committee on Reactor Safeguards.

[FR Doc. 2013-16005 Filed 7-1-13; 8:45 am]

BILLING CODE 7590-01-P